DEPARTMENT OF HOMELAND SECURITY

Coast Guard

[Docket No. USCG-USCG-2015-0628]

Chemical Transportation Advisory Committee

AGENCY: Coast Guard, DHS.

ACTION: Notice of Federal Advisory Committee Meeting.

SUMMARY: The Chemical Transportation Advisory Committee and its subcommittees will meet on August 4, 5, and 6, 2015, in Washington, DC, to discuss the safe and secure marine transportation of hazardous materials. The meetings will be open to the public.

DATES: Subcommittees will meet on Tuesday, August 4, 2015, from 8:30 a.m. to 5 p.m. and on Wednesday, August 5, 2015, from 8:30 a.m. to 5 p.m. The full committee will meet on Thursday, August 6, 2015, from 8:30 a.m. to 5 p.m. Please note that these meetings may close early if the Committee has completed its business.

ADDRESSES: The meetings will be held at the U.S. Department of Transportation, 1200 New Jersey Avenue, Washington, DC 20590. Attendees will be required to pre-register no later than 5 p.m. on July 20, 2015, to be admitted to the meeting. Non-US citizens will be required to pre-register no later than 5 p.m. on July 15, 2015, to be admitted to the meeting. To pre-register contact Lieutenant Cristina Nelson at 202-372-1419 or Cristina.E.Nelson@uscg.mil. For non-U.S. citizens a request for pre-registration should include name, country of citizenship, passport and expiration date, or diplomatic ID number and expiration date, and the company or group with which you are affiliated. For U.S. citizens a pre-registration should include your name, telephone number, and company or group with which you are affiliated. Attendees will be required to provide a government-issued picture identification card in order to gain admittance to the building.

For information on facilities or services for individuals with disabilities or to request special assistance at the meeting, contact the individual listed in the FOR FURTHER INFORMATION CONTACT as soon as possible.

To facilitate public participation, we are inviting public comment on the issues to be considered by the Committee as listed in the “Agenda” section below. Written comments for distribution to Committee members must be submitted no later than July 27, 2015, if you want the Committee members to be able to review your comments before the meeting, and must be identified by docket number USCG-2015-0628. Written comments may be submitted by one of the following methods:

• Federal eRulemaking Portal: http://www.regulations.gov. Follow the instructions for submitting comments. (This is the preferred method to avoid delays in processing.)

• Fax: 202-493-2252.

• Mail: Docket Management Facility (M-30), U.S. Department of Transportation, West Building Ground Floor, Room W12-140, 1200 New Jersey Avenue SE., Washington, DC 20590-0001.

• Hand delivery: Same as mail address above, between 9 a.m. and 5 p.m., Monday through Friday, except Federal holidays. The telephone number is 202-366-9329.

Instructions: All submissions received must include the words “Department of Homeland Security” and the docket number for this action. Comments received will be posted without alteration at http://www.regulations.gov, including any personal information provided. You may review a Privacy Act notice regarding our public dockets in the January 17, 2008, issue of the Federal Register (73 FR 3316).

Docket: For access to the docket to read documents or comments related to this notice, go to http://www.regulations.gov, type USCG-2015-0628 in the Search box, press Enter, and then click on the item you wish to view.

FOR FURTHER INFORMATION CONTACT: Commander Evan Hudspeth, Designated Federal Officer of the Chemical Transportation Advisory Committee, 2703 Martin Luther King Jr. Ave. SE., Stop 7509, Washington, DC 20593-7509, telephone 202-372-1420, fax 202-372-8380, or Evan.D.Hudspeth@uscg.mil. If you have any questions on viewing or submitting material to the docket, call Cheryl Collins, Program Manager, Docket Operations, telephone 202-366-9826 or 1-800-647-5527.

SUPPLEMENTARY INFORMATION: Notice of this meeting is given under the Federal Advisory Committee Act, 5 United States Code Appendix.

The Chemical Transportation Advisory Committee is an advisory committee authorized under section 871 of the Homeland Security Act of 2002, 6 United States Code 451, and is chartered under the provisions of the Federal Advisory Committee Act. The committee acts solely in an advisory capacity to the Secretary of the Department of Homeland Security through the Commandant of the Coast Guard and the Deputy Commandant for Operations on matters relating to safe and secure marine transportation of hazardous materials activities insofar as they relate to matters within the United States Coast Guard's jurisdiction. The Committee advises, consults with, and makes recommendations reflecting its independent judgment to the Secretary.

Agendas of Meetings

Subcommittee Meetings on August 4 and 5, 2015

The subcommittee meetings will separately address the following tasks:

(1) Harmonization of Response and Carriage Requirements for Biofuels and Biofuel Blends.

(2) Recommendations on Safety Standards for the Design of Vessels Carrying Natural Gas or Using Natural Gas as Fuel.

(3) Recommendations for Safety Standards for Ship to Ship Transfer of Hazardous Material Outside of the Baseline.

(4) Recommendations for Guidance on the Implementation of Revisions to MARPOL Annex II and the International Code for the Construction and Equipment of Ships Carrying Dangerous Chemicals in Bulk (commonly known as the IBC Code).

(5) Improving Implementation of and Education about MARPOL Discharge Requirements under MARPOL Annex II and V.

(6) Vapor Control System Regulation supplementation, corrections and improvements. The task statements from the last committee meeting are located at Homeport at the following address: https://homeport.uscg.mil. Go to: Missions > Ports and Waterways > Safety Advisory Committees > CTAC Subcommittees and Working Groups.

The agenda for each subcommittee will include the following:

1. Review task statements of the agenda for the August 6, 2015, meeting.

2. Work on tasks assigned in task statements mentioned above.

3. Discuss and prepare proposed recommendations for the Chemical Transportation Advisory Committee meeting on August 6, 2015, on tasks assigned in detailed task statements mentioned above.

4. Public comment period.

Full Committee Meeting on August 6, 2015

The agenda for the Chemical Transportation Advisory Committee meeting on August 6, 2015, is as follows:

1. Introductions and opening remarks.

2. Marine Transportation System Presentation.

3. Coast Guard Leadership Remarks.

4. Committee will review, discuss, and formulate recommendations on the following tasks:

a. Harmonization of Response and Carriage Requirements for Biofuels and Biofuel Blends.

b. Recommendations on Safety Standards for the Design of Vessels Carrying Natural Gas or Using Natural Gas as Fuel.

c. Recommendations for Safety Standards for Ship to Ship Transfer of Hazardous Material Outside of the Baseline.

d. Recommendations for Guidance on the Implementation of Revisions to MARPOL Annex II and the International Code for the Construction and Equipment of Ships Carrying Dangerous Chemicals in Bulk (commonly known as the IBC Code).

e. Improving Implementation of and Education about MARPOL Discharge Requirements under MARPOL Annex II and V.

f. Vapor Control System Regulation supplementation, corrections and improvements.

5. USCG presentations on the following items of interest:

a. Update on International Maritime Organization activities as they relate to the marine transportation of hazardous materials.

b. Update on U.S. regulations and policy initiatives as they relate to the marine transportation of hazardous materials.

6. Public comment period.

7. Set next meeting date and location.

8. Set subcommittee meeting schedule.

A public comment period will be held during each Subcommittee meeting and the full committee meeting concerning matters being discussed. Public comments will be limited to 3 minutes per speaker. Please note that the public comment period will end following the last call for comments. Please contact Commander Evan Hudspeth, listed in the FOR FURTHER INFORMATION CONTACT section, to register as a speaker.

Dated: July 8, 2015.
J.G. Lantz,
Director of Commercial Regulations and Standards, United States Coast Guard.

[FR Doc. 2015-17358 Filed 7-14-15; 8:45 am]

BILLING CODE 9110-04-P